DEPARTMENT OF HEALTH AND HUMAN SERVICES

Centers for Disease Control and Prevention

World Trade Center Health Program Scientific/Technical Advisory Committee (WTCHP, STAC); Notice of Charter Renewal

AGENCY: Centers for Disease Control and Prevention (CDC), Department of Health and Human Services (HHS).

ACTION: Notice of charter renewal.

SUMMARY: This gives notice that under Public Law 111-347 (the James Zadroga 9/11 Health and Compensation Act of 2010), as amended by Public Law 114-113, and the Federal Advisory Committee Act (Pub. L. 92-463) of October 6, 1972, the World Trade Center Health Program Scientific/Technical Advisory Committee, the Centers for Disease Control and Prevention, Department of Health and Human Services, has been renewed for a 2-year period through May 12, 2023.

FOR FURTHER INFORMATION CONTACT: Tania Carreón-Valencia, Ph.D., Designated Federal Officer, WTCHP STAC, National Institute for Occupational Safety and Health, Centers for Disease Control and Prevention, Department of Health and Human Services, 1600 Clifton Road NE, Mailstop R-12, Atlanta, GA 30329-4027, Telephone: (513) 841-4515; Email: TCarreonValencia@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-11378 Filed 5-27-21; 8:45 am]

BILLING CODE 4163-18-P